DEPARTMENT OF COMMERCE

National Institute of Standards and Technology

[Docket Number: 0910051336-91337-01]

Draft Report on the Collapse of the Dallas Cowboys Indoor Practice Facility, May 2, 2009; Request for Comments

AGENCY: National Institute of Standards and Technology, Department of Commerce.

ACTION: Notice; request for comments.

SUMMARY: The National Institute of Standards and Technology (NIST) seeks comments on the draft report of its study of the Dallas Cowboys Indoor Practice Facility Collapse, May 2, 2009.

DATES: Comments must be received on or before 12 noon Eastern Time, November 6, 2009.

ADDRESSES: Comments may be submitted to NIST by e-mail at structuralsafety@nist.gov, by fax to 301-869-6275; or by regular mail to the attention of Stephen Cauffman, National Institute of Standards and Technology, 100 Bureau Drive, Stop 8611, Gaithersburg, MD 20899-8611.

The draft report is available at: http://www.bfrl.nist.gov/investigations/investigations.htm.

FOR FURTHER INFORMATION CONTACT: Requests for further information may be addressed to: Stephen Cauffman, National Institute of Standards and Technology, 100 Bureau Drive, Stop 8611, Gaithersburg, MD 20899-8611; tel: (301) 975-6051; e-mail: structuralsafety@nist.gov.

SUPPLEMENTARY INFORMATION: The report summarizes the NIST study of the collapse of the Dallas Cowboys indoor practice facility that occurred on the afternoon of May 2, 2009, during a severe thunderstorm. The principal findings of this study are summarized in this report and include the definition of the wind environment that affected the practice facility on May 2, 2009, possible factors contributing to the collapse of the facility, and the likely collapse sequence. The report concludes with a recommendation for action for improving the safety of fabric-covered frame structures and ensuring the adequate performance of such structures under design wind loads.

Request for Comments: NIST seeks comments on the draft report of its study of the Dallas Cowboys Indoor Practice Facility Collapse, May 2, 2009. NIST will review comments received, make appropriate revisions, and publish the report in a final form following the public comment period.

Dated: October 16, 2009.
Patrick Gallagher,
Deputy Director, NIST.

[FR Doc. E9-25557 Filed 10-22-09; 8:45 am]

BILLING CODE 3510-13-P